DEPARTMENT OF ENERGY

10 CFR Chs. II, III, and X

48 CFR Ch. 9

Semiannual Regulatory Agenda

AGENCY: Department of Energy.

ACTION: Semiannual regulatory agenda.

SUMMARY: The Department of Energy (DOE) has prepared and is making available its portion of the semiannual Unified Agenda of Federal Regulatory and Deregulatory Actions (Agenda) pursuant to Executive Order 12866, “Regulatory Planning and Review,” and the Regulatory Flexibility Act.

FOR FURTHER INFORMATION CONTACT: For further information about any particular item on the regulatory agenda, please contact the individual listed under that item. For further information on the regulatory agenda in general, please contact: Diana L. Dean, GC-71, Room 6B-0159, Forrestal Building, 1000 Independence Avenue SW., Washington, DC 20585, (202) 586-7440.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy Act of 2005, the Energy Independence and Security Act of 2007, and programmatic needs of DOE offices.

The Internet is the basic means for disseminating the Agenda and providing users the ability to obtain information from the Agenda database. DOE's entire Spring 2014 Agenda can be accessed online by going to: www.reginfo.gov. Agenda entries reflect the status of activities as of approximately April 30, 2014.

Publication in the Federal Register is mandated by the Regulatory Flexibility Act (5 U.S.C. 602) only for Agenda entries that require either a regulatory flexibility analysis or periodic review under section 610 of that Act. DOE's regulatory flexibility agenda is made up of seven rulemakings setting energy efficiency standards for the following products:

Battery Chargers

Commercial Packaged Boilers

Commercial Refrigeration Equipment

External Power Supplies

Metal Halide Lamp Fixtures

Residential Furnace Fans

Walk-in Coolers and Walk-in Freezers

Issued in Washington, DC, on April 15, 2014.
Anne Harkavy,
Acting General Counsel.

Energy Efficiency and Renewable Energy—Proposed Rule Stage
Sequence No. | Title | Regulation Identifier No.
112 | Energy Conservation Standards for Commercial Packaged Boilers | 1904-AD01
113 | Energy Conservation Standards for Residential Dishwashers | 1904-AD24

Energy Efficiency and Renewable Energy—Final Rule Stage
Sequence No. | Title | Regulation Identifier No.
114 | Energy Conservation Standards for Residential Furnace Fans | 1904-AC22

Energy Efficiency and Renewable Energy—Completed Actions
Sequence No. | Title | Regulation Identifier No.
115 | Energy Efficiency Standards for External Power Supplies | 1904-AB57
116 | Energy Conservation Standards for Walk-In Coolers and Walk-In Freezers | 1904-AB86
117 | Energy Efficiency Standards for Metal Halide Lamp Fixtures | 1904-AC00
118 | Energy Conservation Standards for Commercial Refrigeration Equipment | 1904-AC19
119 | Certification Requirements for Commercial Heating, Ventilation, Water Heating, and Refrigeration Equipment | 1904-AD12

DEPARTMENT OF ENERGY (DOE)

Proposed Rule Stage

Energy Efficiency and Renewable Energy (EE)

112. Energy Conservation Standards for Commercial Packaged Boilers

Legal Authority: 42 U.S.C. 6313(a)(6)(C)

Abstract: DOE is initiating this rulemaking pursuant to EPCA 42 U.S.C. 6313(a)(6)(C), as amended by the Energy Independence and Security Act of 2007 (EISA 2007) and the American Energy Manufacturing Technical Corrections Act (AEMTCA), which requires that every six years DOE must publish either a notice of the determination that standards for the product do not need to be amended, or a Notice of Proposed Rulemaking including new proposed energy conservation standards. DOE's last final rule for commercial packaged boilers was issued on July 22, 2009, so as a result, DOE must act by July 22, 2015. This rulemaking will satisfy this statutory provision.

Timetable:

Action | Date | FR Cite
Notice of Proposed Determination | 08/13/13 | 78 FR 49202
Public Meeting; Framework Document Availability | 09/03/13 | 78 FR 54197
NOPD Comment Period End | 09/12/13 |
Framework Document Comment Period End | 10/18/13 |
NPRM | 06/00/14 |
Final Action | 07/00/15 |

Regulatory Flexibility Analysis Required: Yes.

Agency Contact: James Raba, Office of Building Technologies Program, EE-5B, Department of Energy, Energy Efficiency and Renewable Energy, 1000 Independence Avenue SW., Washington, DC 20585, Phone: 202 586-8654, Email: jim.raba@ee.doe.gov.

RIN: 1904-AD01

113. • Energy Conservation Standards for Residential Dishwashers

Legal Authority: 42 U.S.C. 6291 et seq.

Abstract: The Energy Policy and Conservation Act of 1975 (EPCA), as amended, prescribes energy conservation standards for various consumer products and certain commercial and industrial equipment, including residential dishwashers. EPCA also requires the DOE undertake a review of existing standards on no later than a six year cycle. This rulemaking will fulfill that requirement for dishwashers.

Timetable:

Action | Date | FR Cite
NPRM | 09/00/14 |
Final Action | 06/00/15 |

Regulatory Flexibility Analysis Required: Yes.

Agency Contact: John Cymbalsky, Office of Building Technologies Program, EE-5B, Department of Energy, Energy Efficiency and Renewable Energy, 1000 Independence Avenue SW., Washington, DC 20585, Phone: 202 287-1692, Email: john.cymbalsky@ee.doe.gov.

RIN: 1904-AD24

DEPARTMENT OF ENERGY (DOE)

Final Rule Stage

Energy Efficiency and Renewable Energy (EE)

114. Energy Conservation Standards for Residential Furnace Fans

Legal Authority: 42 U.S.C. 6295(f)(4)(D)

Abstract: DOE is initiating its first rulemaking to consider new energy conservation standards or energy use standards for electricity used for purposes of circulating air through duct work, as required under 42 U.S.C. 6295(f)(4)(D). As shorthand, DOE commonly refers to these products as “residential furnace fans.” EPCA, as amended, requires DOE to publish a final rule establishing any final energy conservation or energy use standards not later than December 31, 2013.

Timetable:

Action | Date | FR Cite
Notice: Public Meeting, Framework Document Availability | 06/03/10 | 75 FR 31323
Comment Period End | 07/06/10 |
Preliminary Analysis | 07/10/12 | 77 FR 40530
Comment Period End | 09/10/12 |
NPRM | 10/25/13 | 78 FR 64068
Extended NPRM Comment Period End | 01/23/14 |
Final Action | 07/00/14 |

Regulatory Flexibility Analysis Required: Yes.

Agency Contact: Ronald B. Majette, Program Manager, Office of Building Technologies Program, EE-5B, Department of Energy, Energy Efficiency and Renewable Energy, 1000 Independence Avenue SW., Washington, DC 20585, Phone: 202 586-7935, Email: ronald.majette@ee.doe.gov.

RIN: 1904-AC22

DEPARTMENT OF ENERGY (DOE)

Completed Actions

Energy Efficiency and Renewable Energy (EE)

115. Energy Efficiency Standards for External Power Supplies

Legal Authority: 42 U.S.C. 6295(u)

Abstract: In addition to the existing general definition of “external power supply,” the Energy Independence and Security Act of 2007 (EISA) defines a “class A external power supply” and sets efficiency standards for those products. EISA directs the Department of Energy (DOE) to publish a final rule to determine whether the standards set for class A external power supplies should be amended along with standards for other classes of external power supplies that DOE determines satisfy the necessary statutory criteria.

Completed:

Reason | Date | FR Cite
Final Rule for External Power Supplies | 02/10/14 | 79 FR 7846
Final Rule for External Power Supplies Effective Date | 04/11/14 |

Regulatory Flexibility Analysis Required: Yes.

Agency Contact: Jeremy Dommu, Phone: 202 586-9870, Email: jeremy.dommu@ee.doe.gov.

RIN: 1904-AB57

116. Energy Conservation Standards for Walk-in Coolers and Walk-in Freezers

Legal Authority: 42 U.S.C. 6313(f)(4)

Abstract: The Energy Independence and Security Act of 2007 amendments to the Energy Policy and Conservation Act require that the Department of Energy (DOE) establish maximum energy consumption levels for walk-in coolers and walk-in freezers and directs the DOE to develop performance-based energy conservation standards that are technologically feasible and economically justified.

Completed:

Reason | Date | FR Cite
Notice: Public Meeting, Framework Document Availability | 01/06/09 | 74 FR 411
Notice: Public Meeting, Data Availability | 04/05/10 | 75 FR 17080
Comment Period End | 05/28/10 |
NPRM | 09/11/13 | 78 FR 55781
Final Action | 05/00/14 |

Regulatory Flexibility Analysis Required: Yes.

Agency Contact: John Cymbalsky, Phone: 202 287-1692, Email: john.cymbalsky@ee.doe.gov.

RIN: 1904-AB86

117. Energy Efficiency Standards for Metal Halide Lamp Fixtures

Legal Authority: 42 U.S.C. 6295(hh)(2)

Abstract: Section 324 of the Energy Independence and Security Act of 2007 amends the Energy Policy and Conservation Act to require the Department of Energy issue a final rule by January 1, 2012, to determine if the energy conservation standards should be amended.

Completed:

Reason | Date | FR Cite
Final Action | 02/10/14 | 79 FR 7746

Regulatory Flexibility Analysis Required: Yes.

Agency Contact: Lucy DeButts, Phone: 202 287-1604, Email: lucy.debutts@ee.doe.gov.

RIN: 1904-AC00

118. Energy Conservation Standards for Commercial Refrigeration Equipment

Legal Authority: 42 U.S.C. 6313(c)(5)

Abstract: DOE is reviewing and updating energy conservation standards, as required by the Energy Policy and Conservation Act, to reflect technological advances. All amended standards must be technologically feasible and economically justified. As required by EPCA, DOE published previously a final rule establishing energy conservation standards for ice-cream freezers, self-contained commercial refrigerators, freezers, and refrigerator-freezers without doors, for equipment manufactured after January 1, 2012. (74 FR 1092, Jan. 9, 2009) DOE is required to issue a final rule for this second review of energy conservation standards for commercial refrigeration equipment no later than January 1, 2013.

Completed:

Reason | Date | FR Cite
Final Action | 03/28/14 | 79 FR 17726

Regulatory Flexibility Analysis Required: Yes.

Agency Contact: John Cymbalsky, Phone: 202 287-1692, Email: john.cymbalsky@ee.doe.gov.

RIN: 1904-AC19

119. • Certification Requirements for Commercial Heating, Ventilation, Water Heating, and Refrigeration Equipment

Legal Authority: 42 U.S.C. 6291 to 6309; 42 U.S.C. 6311 to 6317

Abstract: DOE is conducting a rulemaking to revise and expand its existing regulations governing certifying compliance with the applicable energy conservation standards and the reporting of related ratings for commercial heating, ventilating, air-conditioning, water heating, and refrigeration equipment covered by EPCA. The revisions being considered in this rulemaking are the direct result of a negotiated rulemaking effort on the certification of commercial HVAC, WH, and refrigeration equipment.

Timetable:

Action | Date | FR Cite
NPRM | 02/14/14 | 79 FR 8886
NPRM Comment Period End | 03/17/14 |
Final Action | 05/05/14 | 79 FR 25486
Final Action Effective | 06/04/14 |

Regulatory Flexibility Analysis Required: Yes.

Agency Contact: Ashley Armstrong, General Engineer, EE-5B, Department of Energy, Energy Efficiency and Renewable Energy, 1000 Independence Avenue SW., Washington, DC 20585, Phone: 202 586-6590, Email: ashley.armstrong@ee.doe.gov.

RIN: 1904-AD12

[FR Doc. 2014-13150 Filed 6-12-14; 8:45 am]

BILLING CODE 6450-01-P